DEPARTMENT OF STATE

[Public Notice 11737]

Notice of Department of State Sanctions Actions

SUMMARY: The Secretary of State has imposed sanctions on 16 individuals.

DATES: The Secretary of State's determination regarding the 16 individuals and imposition of sanctions on the entities, individuals, and vessel identified in the SUPPLEMENTARY INFORMATION section were effective on April 20, 2022.

FOR FURTHER INFORMATION CONTACT: Anthony Musa, mussad@state.gov, Phone: (202) 647-1925.

SUPPLEMENTARY INFORMATION: Pursuant to Section 1 of E.O. 14024, all property and interests in property that are in the United States, that hereafter come within the United States, or that are or hereafter come within the possession or control of any United States person of the following persons are blocked and may not be transferred, paid, exported, withdrawn, or otherwise dealt in: (a) Any person determined by the Secretary of the Treasury, in consultation with the Secretary of State, and, with respect to subsection (a)(ii) of this section, in consultation with the Attorney General, or by the Secretary of State, in consultation with the Secretary of the Treasury, and, with respect to subsection (a)(ii) of this section, in consultation with the Attorney General: (iii) To be or have been a leader, official, senior executive officer, or member of the board of directors of: (C) An entity whose property and interests in property are blocked pursuant to this order.

The Secretary of State has determined, pursuant to Section 1(a)(iii)(C) of E.O. 14024, that Kseniya Valentinovna Yudayeva, Mikhail Yurevich Alekseev, Anatoly Mikhailovich Karachinskiy, Vladimir Vladimirovich Kolychev, Alexey Yurevich Simanovskiy, Andrey Fedorovich Golikov, Elena Borisovna Titova, Mikhail Mikhaylovich Zadornov, Dmitriy Olegovich Levin, Svetlana Petrovna Emelyanova, Tatyana Gennadevna Nesterenko, Irina Vladimirovna Kremleva, Viktor Andreevich Nikolaev, Sergey Georgievich Rusanov, Nadia Narimanovna Cherkasova and Paul Andrew Goldfinch are or have been leaders, officials, senior executive officers, or members of the board of directors of an entity whose property and interests in property are blocked pursuant to E.O. 14024.

Pursuant to E.O. 14024 these entities and individuals have been added to the Specially Designated Nationals and Blocked Persons List. All property and interests in property of these entities subject to U.S. jurisdiction are blocked.

Whitney Baird,
Principal Deputy Assistant Secretary of State, Bureau of Economic and Business Affairs, Department of State.

[FR Doc. 2022-11183 Filed 5-24-22; 8:45 am]

BILLING CODE 4710-AE-P